DEPARTMENT OF DEFENSE

Department of the Navy

Information on Surplus Land at a Military Installation Designated for Disposal: Naval Supply Corps School, Athens, GA

AGENCY: Department of the Navy, DoD.

ACTION: Notice.

SUMMARY: This notice provides information on the surplus property at Naval Supply Corps School, Athens, GA.

FOR FURTHER INFORMATION CONTACT: Ms. Kimberly Kesler, Director, Base Realignment and Closure Program Management Office, 1455 Frazee Road, San Diego, CA 92108-4310, telephone 619-532-0993; or Mr. James E. Anderson, Director, Base Realignment and Closure Program Management Office, Southeast, 2144 Eagle Drive, North Charleston, SC 29406, telephone 843-820-5809.

SUPPLEMENTARY INFORMATION: In 2005, Naval Supply Corps School, Athens, GA was designated for closure under the authority of the Defense Base Closure and Realignment Act of 1990, Public Law 101-510, as amended (the Act). Pursuant to this designation, on January 23, 2006, land and facilities at this installation were declared excess to the Department of Navy (Navy) and available to other Department of Defense components and other Federal agencies. The Navy has evaluated all timely Federal requests and has made a decision on property required by the Federal Government.

Notice of Surplus Property. Pursuant to paragraph (7)(B) of section 2905(b) of the Act, as amended by the Base Closure Community Redevelopment and Homeless Assistance Act of 1994, the following information regarding the redevelopment authority for surplus property at Naval Supply Corps School, Athens, GA, is published in the Federal Register.

Redevelopment Authority. The local redevelopment authority for Naval Supply Corps School, Athens, GA is the Navy Supply Corps School Local Redevelopment Authority. The point of contact is Mr. Buddy Allen, Chairman, 2595 Atlanta Highway, Athens, GA 30604, telephone 706-549-0706.

Surplus Property Description. The following is a list of the land and facilities at Naval Supply Corps School, Athens, that are surplus to the needs of the Federal Government.

a. Land. Naval Supply Corps School, Athens, GA consists of approximately 58 acres of improved land located within Clarke County and the City of Athens. In general, all areas will be available when the installation closes in March 2011.

b. Buildings. The following is a summary of the buildings and other improvements located on the above-described land that will also be available when the installation closes. Property numbers are available on request.

(1) Administrative/office/training facilities (33 structures). Comments: Approximately 142,000 square feet.

(2) Bachelor quarters housing (9 structures). Comments: Approximately 95,000 square feet.

(3) Medical and Dental facilities (2 structures). Comments: Approximately 10,000 square feet.

(4) Family Housing units (56 units with Garages). Comments: Approximately 101,000 square feet.

(5) Miscellaneous facilities (27 structures). Comments: Approximately 69,000 square feet. Includes post office, bank, commissary, chapel, library, exchange, mess, storage, etc.

(6) Paved areas. Comments: Approximately 58,482 square yards of roads, parking lots, sidewalks, and bridges.

(7) Recreational facilities include pools, ball fields, and playing fields. Comments: Measuring systems vary.

(8) Utility facilities (approximately 11 structures) Comments: Approximately 13,000 square feet, measuring systems vary; gas, telephone, electric, storm drainage, water, sewer, fire protection systems, etc.

Redevelopment Planning. Pursuant to section 2905(b)(7)(F) of the Act, the Navy Supply Corps School Local Redevelopment Authority (the LRA) will conduct a community outreach effort with respect to the surplus property and will publish, within 30 days of the date of this notice, in a newspaper of general circulation in the communities within the vicinity of Naval Supply Corps School, Athens, GA the time period for during which the LRA will receive notices of interest from State and local governments, representatives of the homeless, and other interested parties. This publication shall include the name, address, telephone number, and the point of contact for the LRA who can provide information on the prescribed form and contents of the notices of interest.

Dated: May 3, 2006.
Eric McDonald,
Lieutenant Commander, Judge Advocate General's Corps, U.S. Navy, Federal Register Liaison Officer.

[FR Doc. E6-7093 Filed 5-9-06; 8:45 am]

BILLING CODE 3810-FF-P